DEPARTMENT OF AGRICULTURE

Submission for OMB Review; Comment Request

June 26, 2019.

The Department of Agriculture has submitted the following information collection requirement(s) to OMB for review and clearance under the Paperwork Reduction Act of 1995. Comments are requested regarding: Whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by July 31, 2019 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Summer Food Site Locations for State Agencies.

OMB Control Number: 0584-NEW.

Summary of Collection: Section 13 of the Richard B. Russell National School Lunch Act (NSLA) authorizes the Summer Food Service Program (SFSP) to provide low-income children with access to nutritious meals when school is not in session. Meals meeting Federal nutrition guidelines are served at no cost to all children 18 years old and under at approved SFSP sites in areas in which at least 50 percent of children are eligible for free and reduced price school meals during the school year. SFSP sites operate, by design, for a short period during the summer and their locations, hours and days of operations may not be well known to those children who depend on school lunch during the school year. The proposed FNS-905 will collect this information and make it available to the public.

Need and Use of the Information: FNS will use the information to update the USDA National Hunger Clearinghouse. The National Hunger Clearinghouse collects, develops, and distributes information and resources to help build the capacity of emergency food providers to address the immediate needs of struggling families and individuals while promoting self-reliance and access to healthy food.

Description of Respondents: State, Local, or Tribal Government.

Number of Respondents: 53.

Frequency of Responses: Reporting: 8 responses annually.

Total Burden Hours: 53.

Ruth Brown,
Departmental Information Collection Clearance Officer.

[FR Doc. 2019-13971 Filed 6-28-19; 8:45 am]

BILLING CODE 3410-30-P